DEPARTMENT OF TRANSPORTATION

Federal Aviation Administration

14 CFR Part 39

[Docket No. FAA-2011-1033; Directorate Identifier 2009-SW-43-AD; Amendment 39-16815; AD 2011-20-05]

RIN 2120-AA64

Airworthiness Directives; Eurocopter France (Eurocopter) Model EC225LP Helicopters

AGENCY: Federal Aviation Administration, DOT.

ACTION: Final rule; request for comments.

SUMMARY: This amendment adopts a new airworthiness directive (AD) for the Eurocopter Model EC225LP helicopters. This AD requires inspecting the dome fairing support for a crack at the dome fairing attachment point. If a crack is found, this AD requires replacing the dome fairing support and the associated coning stop support assembly before further flight. If no crack is found, this AD requires repetitive inspections and retorquing the screws at specified intervals. This AD is prompted by the discovery of two fatigue cracks in the dome fairing attachment on the dome fairing support. This condition, if not corrected, could lead to the loss of the dome fairing in flight, causing damage to the helicopter and injury to people on the ground.

DATES: Effective November 14, 2011.

Comments for inclusion in the Rules Docket must be received on or before December 27, 2011.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket:

You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Gary Roach, Aviation Safety Engineer, FAA, Regulations and Policy Group, 2601 Meacham Blvd., Fort Worth, Texas 76137; telephone: (817) 222-5130; fax: 817-222-5961.

SUPPLEMENTARY INFORMATION:

Discussion

The European Aviation Safety Agency (EASA), which is the Technical Agent for the Member States of the European Union, has issued EASA AD 2009-0023, dated February 20, 2009, to correct an unsafe condition for the Eurocopter Model EC225LP helicopters. EASA advises that two fatigue cracks were discovered in the dome fairing attachment on the dome fairing support due to the loss of the tightening torque of the screws which secure the assembly. Since then, Eurocopter has developed a modification (MOD) which includes installation of redesigned parts with “modified geometrics” in the main rotor hub area.

Related Service Information

Eurocopter has issued Emergency Alert Service Bulletin No. 05A005, Revision 1, dated February 3, 2009 (EASB 05A005), which applies to FAA type-certificated Model EC225LP helicopters and non-FAA type certificated Model EC725AP military helicopters. Eurocopter also issued Service Bulletin No. 62-007, Revision 1, dated July 10, 2009, which applies to FAA type-certificated Model EC225LP helicopters, and specifies reinforcing the cone restrainer support, MOD 0743718. EASB 05A005 specifies checking the dome fairing support for a crack and readjusting the tightening torque of the dome fairing-to-dome fairing support attachment screws. If a crack is found, the EASB specifies complying with MOD 0743718 before resuming flight. Eurocopter states that installing this MOD exempts the operator from the monitoring requirements. They also state that this MOD reinforces the coning stop support and improves the dome fairing support attachment on the coning stop support. The EASA classified this service information as mandatory and issued EASA AD No. 2009-0023, dated February 20, 2009, to ensure the continued airworthiness of these helicopters.

FAA's Evaluation and Unsafe Condition Determination

This helicopter model has been approved by the aviation authority of France and is approved for operation in the United States. Pursuant to our bilateral agreement with France, EASA, their technical representative, has notified us of the unsafe condition described in the EASA AD. We are issuing this AD because we evaluated all information provided by EASA and determined an unsafe condition exists and is likely to exist or develop on other helicopters of the same type design.

There are no products of this type currently registered in the United States. However, this rule is necessary to ensure that the described unsafe condition is addressed if any of these products are placed on the U.S. Registry in the future.

Differences Between This AD and the EASA AD

This AD differs from the EASA AD in that we:

• Use “hours time-in-service” rather than “flight hours.”

• Do not impose a calendar date compliance time.

• Use the term “inspect” rather than “check.”

Costs of Compliance

There are no costs of compliance since there are no helicopters of this type design on the U.S. Registry.

FAA's Determination of the Effective Date

Since there are currently no affected U.S. registered helicopters, we have determined that notice and opportunity for prior public comment before issuing this AD are unnecessary and that good cause exists for making this amendment effective in less than 30 days.

Requirements of This AD

This unsafe condition is likely to exist or develop on other helicopters of the same type design registered in the United States. Therefore, this AD is being issued to prevent loss of the dome fairing in flight, causing damage to the helicopter and injury to people on the ground. This AD requires inspecting for a crack in the dome fairing support at the dome fairing attachment points. If a crack is found, this AD requires replacing the dome fairing support and the associated coning stop support assembly before further flight. If no crack is found, this AD requires repetitive inspections and retorquing the screws securing the dome fairing support to the dome fairing at specified intervals. This AD is prompted by the discovery of two fatigue cracks in the dome fairing attachment on the dome fairing support. Accomplishing Eurocopter MOD 0743718 constitutes terminating action for the requirements of this AD.

Comments Invited

This AD is a final rule that involves requirements affecting flight safety, and we did not precede it by notice and opportunity for public comment. We invite you to send any written relevant data, views, or arguments about this AD. Send your comments to an address listed under the ADDRESSES. Include “Docket No. FAA-2011-1033; Directorate Identifier 2009-SW-43-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the docket web site, you can find and read the comments to any of our dockets, including the name of the individual who sent the comment. You may review the DOT's complete Privacy Act Statement in the Federal Register published on April 11, 2000 (65 FR 19477-78).

Regulatory Findings

We have determined that notice and prior public comment are unnecessary in promulgating this regulation; therefore, it can be issued immediately to correct an unsafe condition in aircraft since none of these model helicopters are registered in the United States. We have also determined that this regulation is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the AD docket.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by Reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2011-20-05 Eurocopter France (Eurocopter): Amendment 39-16815; Docket No. FAA-2011-1033; Directorate Identifier 2009-SW-43-AD.

Applicability: Model EC225LP helicopters, certificated in any category, that have not been modified in accordance with Eurocopter Modification (MOD) 0743718.

Compliance: Required as indicated.

To prevent loss of the dome fairing in flight, damage to the helicopter, and injury to people on the ground, accomplish the following:

(a) Within 15 hours time-in-service (TIS), unless accomplished previously, inspect for a crack in the dome fairing support at the dome fairing attachment points.

(1) If a crack is found in the dome fairing support or at a dome fairing attachment point, before further flight, replace the dome fairing support and the associated coning stop support assembly.

(2) If no crack is found, thereafter at intervals not exceeding 165 hours TIS, inspect for a crack in the dome fairing support, and re-torque the screws securing the dome fairing support to the dome fairing.

Note 1: Eurocopter Emergency Alert Service Bulletin No. 05A005, Revision 1, dated February 3, 2009, and Service Bulletin No. 62-007, Revision 1, dated July 10, 2009, which are not incorporated by reference, contain additional information about the subject of this AD.

(b) Accomplishing Eurocopter MOD 0743718 constitutes terminating action for the requirements of this AD.

(c) To request a different method of compliance or a different compliance time for this AD, follow the procedures in 14 CFR 39.19. Contact the Manager, Safety Management Group, FAA, Attn: Gary Roach, Aviation Safety Engineer, FAA, Regulations and Policy Group, 2601 Meacham Blvd., Fort Worth, Texas 76137; telephone: (817) 222-5130; fax: 817-222-5961, for information about previously approved alternative methods of compliance.

(d) A special flight permit will not be issued.

(e) The Joint Aircraft System/Component (JASC) Code is 6300: Main Rotor Drive System.

(f) This amendment becomes effective on November 14, 2011.

Note 2: The subject of this AD is addressed in European Aviation Safety Agency AD No. 2009-0023, dated February 20, 2009.

Issued in Fort Worth, Texas, on September 13, 2011.
Lance T. Gant,
Acting Manager, Rotorcraft Directorate, Aircraft Certification Service.

[FR Doc. 2011-27771 Filed 10-26-11; 8:45 am]

BILLING CODE 4910-13-P